COMMISSION ON CIVIL RIGHTS

Sunshine Act Meeting Notice

AGENCY: United States Commission on Civil Rights.

ACTION: Notice of Commission public business meeting.

DATES: Friday, February 23, 2024, 10 a.m. EST.

ADDRESSES: Meeting to take place virtually and is open to the public via livestream on the Commission's YouTube page: https://www.youtube.com/user/USCCR/videos.

FOR FURTHER INFORMATION CONTACT: Angelia Rorison: 202-376-8371; publicaffairs@usccr.gov.

SUPPLEMENTARY INFORMATION: In accordance with the Government in Sunshine Act (5 U.S.C. 552b), the Commission on Civil Rights is holding a meeting to discuss the Commission's business for the month. This business meeting is open to the public. Computer assisted real-time transcription (CART) will be provided. The web link to access CART (in English) on Friday, February 23, 2024, is https://www.streamtext.net/player?event=USCCR. Please note that CART is text-only translation that occurs in real time during the meeting and is not an exact transcript.

Meeting Agenda

A. Approval of Agenda

B. Business Meeting

1. Presentation by State Advisory Committee Chairs on Reports and related Memorandum:

a. Chair Michelle Rydz, North Dakota Advisory Committee, “Civil Rights and Fair Housing in North Dakota

b. Chair Steven Irwin, Pennsylvania Advisory Committee, “Affirmatively Furthering Fair Housing: An Analysis of Fair Housing Access & Zoning Practices in Pennsylvania”

c. Rev. Dr. Donnie Anderson, Member, Rhode Island Advisory Committee, “Licensing Barriers to Employment Post-Conviction in Rhode Island”

C. Management and Operations

• Staff Director's Report

D. Adjourn Meeting

Dated: February 13, 2024.
Angelia Rorison,
USCCR Media and Communications Director.

[FR Doc. 2024-03268 Filed 2-13-24; 11:15 am]

BILLING CODE 6335-01-P